DEPARTMENT OF THE INTERIOR

National Park Service

Notice of Inventory Completion: Field Museum of Natural History, Chicago, IL

AGENCY: National Park Service, Interior.

ACTION: Notice.

Notice is here given in accordance with the Native American Graves Protection and Repatriation Act (NAGPRA), 25 U.S.C. 3003, of the completion of an inventory of human remains in the possession of the Field Museum of Natural History, Chicago, IL. The human remains were removed from Aliulik Peninsula, Kodiak Island, AK.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Field Museum of Natural History professional staff in consultation with professional staff of the Alutiiq Museum and Archaeological Repository, Kodiak, AK, on behalf of Akhiok-Kaguyak, Inc.; Kaguyak Village; Koniag, Inc.; and Native Village of Akhiok.

In 1950, human remains representing a minimum of one individual were removed from the the Alitak Bay side of the Aliulik Peninsula, Kodiak Island, AK, by Arthur Freeman, who donated them to the Field Museum of Natural History in 1983 (Field Museum of Natural History accession number 3566, catalog number 242601). No known individual was identified. No associated funerary objects are present.

The human remains have been identified as Native American based on specific cultural and geographic attributions in Field Museum of Natural History records. The records identify the human remains as “probably Koniag, Eskimo” from the “Alitak Bay side of Aliulik Peninsula (154W 56' 50”N), Kodiak, Alaska.” Koniag Eskimo - a term used by anthropologists to refer to both the late prehistoric and historic Native peoples of the Kodiak region - are the ancestors of the contemporary Kodiak Alutiiq people. Specifically, the human remains are from an area of the Kodiak archipelago traditionally used by shareholders and citizens of Akhiok-Kaguyak, Inc.; Kaguyak Village; Koniag, Inc.; and Native Village of Akhiok.

Officials of the Field Museum of Natural History have determined that, pursuant to 25 U.S.C. 3001 (9-10), the human remains described above represent the physical remains of one individual of Native American ancestry. Officials of the Field Museum of Natural History also have determined that, pursuant to 25 U.S.C. 3001 (2), there is a relationship of shared group identity that can be reasonably traced between the Native American human remains and Akhiok-Kaguyak, Inc.; Kaguyak Village; Koniag, Inc.; and Native Village of Akhiok.

Representatives of any other Indian tribe that believes itself to be culturally affiliated with the human remains should contact Helen Robbins, Repatriation Director, Field Museum of Natural History, 1400 South Lake Shore Drive, Chicago, IL 60605-2496, telephone (312) 665-7317, before June 25, 2009. Repatriation of the human remains to Akhiok-Kaguyak, Inc.; Kaguyak Village; Koniag, Inc.; and Native Village of Akhiok may proceed after that date if no additional claimants come forward.

The Field Museum of Natural History is responsible for notifying Akhiok-Kaguyak, Inc.; Kaguyak Village; Koniag, Inc.; and Native Village of Akhiok that this notice has been published.

Dated: May 6, 2009
Sherry Hutt,
Manager, National NAGPRA Program.

[FR Doc. E9-12289 Filed 5-22-09; 8:45 am]

BILLING CODE 4312-50-S